NATIONAL COMMISSION ON TERRORIST ATTACKS UPON THE UNITED STATES

Public Hearing

ACTION: Notice of public hearing.

SUMMARY: The National Commission on Terrorist Attacks Upon the United States will hold its sixth public hearing on December 8, 2003, in Washington, DC. Witnesses will speak about issues related to domestic intelligence collection, protecting privacy while preventing terrorism, and the use of immigration laws to combat terrorism. Representatives of the media should register in advance of the hearing by visiting the Commission's Web site at http://www.9-11commission.gov. Seating for the general public will be on a first-come, first-served basis. Press availability will occur at the conclusion of the hearing.

DATES: December 8, 2003, 9 a.m. to 4 p.m. Press availability to follow.

LOCATION: Russell Senate Office Building, Room 253, Washington, DC, 20510.

FOR FURTHER INFORMATION CONTACT: Al Felzenberg, (202) 401-1725 (office) or (202) 236-4878 (cellular).

SUPPLEMENTARY INFORMATION: Please refer to Public Law 107-306 (November 27, 2002), title VI (Legislation creating the Commission), and the Commission's Web site: http://www.9-11 commission.gov.

Dated: December 2, 2003.
Philip Zelikow,
Executive Director.

[FR Doc. 03-30332 Filed 12-5-03; 8:45 am]

BILLING CODE 4800-01-M